COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: November 06, 2022.

ADDRESSES: Committee for Purchase From People Who Are Blind or Severely Disabled, 355 E Street SW, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) are proposed for deletion from the Procurement List:

Product(s)

NSN(s)—Product Name(s):

8415-00-NSH-0336—Trousers, Fleece,

8415-00-NSH-0365—Trousers, Fleece,

8415-00-NSH-0367—Trousers, Fleece,

8415-00-NSH-0366—Trousers, Fleece

Designated Source of Supply: Peckham Vocational Industries, Inc., Lansing, MI

Contracting Activity: W6QK ACC-APG NATICK, NATICK, MA

Michael R. Jurkowski,
Acting Director, Business Operations.

[FR Doc. 2022-21866 Filed 10-6-22; 8:45 am]

BILLING CODE 6353-01-P